DEPARTMENT OF ENERGY

Federal Energy Regulatory Commission

[Docket No. CP17-41-000]

Notice of Schedule for Environmental Review of the Eagle LNG Partners Jacksonville, LLC Jacksonville Project

On January 31, 2017, Eagle LNG Partners Jacksonville, LLC (Eagle LNG) filed an application with the Federal Energy Regulatory Commission (FERC or Commission) in Docket No. CP17-41-000 pursuant to section 3(a) of the Natural Gas Act and Parts 153 and 380 of the Commission's Regulations, requesting authorization to site, construct, and operate a natural gas liquefaction, storage, and liquefied natural gas (LNG) export facility. The proposed project, known as the Jacksonville Project, would consist of three liquefaction trains with a total capacity of 132 million cubic feet per day and one full containment LNG storage tank capable of storing 12,000,000 gallons of LNG (equivalent to 1.0 billion cubic feet of natural gas), for domestic LNG markets and for export overseas. The terminal would receive natural gas to the export facilities from a third-party intrastate pipeline. On July 21, 2016, in Order No. 3867, the U.S. Department of Energy, Office of Fossil Energy, granted to Eagle LNG a long-term, multi-contract authorization to export LNG to Free Trade Agreement nations.

FERC issued its Notice of Application for the Jacksonville Project on February 13, 2017. Among other things, that notice alerted other agencies issuing federal authorizations of the requirement to complete all necessary reviews and to reach a final decision on the request for a federal authorization within 90 days of the date of issuance of the Commission staff's final environmental impact statement (EIS) for the Jacksonville Project. This notice identifies the FERC staff's planned schedule for completion of the final EIS for the Jacksonville Project, which is based on an issuance of the draft EIS in November 2018. The forecasted schedule for both the draft and final EIS is based upon Eagle LNG providing complete and timely responses to any future data requests. In addition, the schedule assumes that the cooperating agencies will provide input on their areas of responsibility on a timely basis.

Schedule for Environmental Review

Issuance of Notice of Availability of the final EIS—April 12, 2019

90-Day Federal Authorization Decision Deadline—July 11, 2019

If a schedule change becomes necessary for the final EIS, an additional notice will be provided so that the relevant agencies are kept informed of project's progress.

Background

On December 3, 2014, the Commission staff granted Eagle LNG's request to use FERC's pre-filing environmental review process and assigned the Jacksonville Project Docket No. PF15-7-000. On February 24, 2015, the Commission issued a Notice of Intent To Prepare an Environmental Impact Statement for the Planned Jacksonville Project, Request for Comments on Environmental Issues, and Notice of Public Scoping Meeting. On March 25, 2015, the Commission issued a Supplemental Notice to seek comments. The notices were issued during the pre-filing review of the project in Docket No. PF15-7-000 and were sent to federal, state, and local government representatives and agencies; elected officials; environmental and public interest groups; Native American Tribes; affected property owners; other interested parties; and local libraries and newspapers. Major issues raised during scoping include visual impacts, threatened and endangered species, surface water and groundwater resources, air quality and noise, and safety.

The U.S. Army Corps of Engineers, the U.S. Coast Guard, the U.S. Department of Transportation, and the U.S. Department of Energy are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents via email. Go to www.ferc.gov/docs-filing/esubscription.asp.

Additional information about the Jacksonville Project is available from the Commission's Office of External Affairs at (866) 208-FERC or on the FERC website (www.ferc.gov). Using the eLibrary link, select General Search from the eLibrary menu, enter the selected date range and Docket Number excluding the last three digits (i.e., CP17-41), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19393 Filed 9-6-18; 8:45 am]

BILLING CODE 6717-01-P